DEPARTMENT OF ENERGY

Federal Energy Regulatory Commission

Notice of Application Tendered for Filing With the Commission

October 24, 2000.

Take notice that the following hydroelectric application has been filed with the Commission and is available for public inspection:

a. Type of Application: Major New License.

b. Project No.: 309-036.

c. Date filed: October 11, 2000.

d. Applicant: Reliant Energy Mid-Atlantic Power Holdings, LLC.

e. Name of Project: Piney Hydroelectric Project.

f. Location: Project is located on the Clarion River in Clarion County, Pennsylvania, and would not utilize any federal lands or facilities.

g. Filed Pursuant to: Federal Power Act 16 U.S.C. §§ 791(a)-825(r).

h. Applicant Contact: Mr. Thomas Teitt, Reliant Energy Mid-Atlantic Power Holdings, LLC, 1001 Broad St., Johnstown, PA 15907-1050.

i. FERC Contact: Any questions on this notice should be addressed to William Guey-Lee, E-mail address william.gueylee@ferc.fed.us, or telephone (202) 219-2808.

j. Status of Environmental Review: This application is not ready for environmental analysis at this time.

k. Description of Project: The project consists of the following: (1) The 427-foot-long and 139-foot-high concrete arch dam with crest elevation at 1,075 ft. msl, an 84-foot-long left non-overflow wall, and a 200-foot-long right non overflow wall; (2) an 800-acre surface area reservoir; (3) an 84-foot-wide integral intake; (4) three 230-foot-long, 14-foot-diameter penstocks; (5) a powerhouse with 3 generating units totaling 28,300 kilowatts; (6) a 250-foot-long tailrace; (7) 700-foot-long and 900-foot-long transmission lines; and (8) appurtenant facilities.

l. Locations of the application: A copy of the application is available for inspection and reproduction at the Commission's Public Reference Room, located at 888 First Street, NE, Room 2A, Washington, D.C. 20426, or by calling (202) 208-1371. The application may be viewed on the web at www.ferc.fed.us. Call (202) 208-2222 for assistance. A copy is also available for inspection and reproduction at the address in item h above.

David P. Boergers,
Secretary.

[FR Doc. 00-27764 Filed 10-27-00; 8:45 am]

BILLING CODE 6717-01-M